DEPARTMENT OF DEFENSE

Office of the Secretary

Notice of Meeting

AGENCY: DoD Education Benefits Board of Actuaries.

ACTION: Notice of meeting.

SUMMARY: A meeting of the Board has been scheduled to execute the provisions of Chapter 101, Title 10, United States Code (10 U.S.C. 2006). The Board shall review DoD actuarial methods and assumptions to be used in the valuation of the Department of Defense Education Benefits Fund. Persons desiring to: (1) Attend the DoD Education Benefits Board of Actuaries meeting, or (2) make an oral presentation or submit a written statement for consideration at the meeting, must notify Inger Pettygrove at (703) 696-7413 by July 8, 2005.

Notice of this meeting is required under the Federal Advisory Committee Act.

DATES: August 12, 2005 10 a.m. to 1 p.m.

ADDRESSES: 4040 N. Fairfax Drive, Suite 270, Arlington, VA 22203.

FOR FURTHER INFORMATION CONTACT: Inger Pettygrove, DoD Office of the Actuary, 4040 N. Fairfax Drive, Suite 308, Arlington, VA 22203, (703) 696-7413.

Dated: May 31, 2005.
Jeannette Owings-Ballard,
OSD Federal Register Liaison Officer, Department of Defense.

[FR Doc. 05-11230 Filed 6-6-05; 8:45 am]

BILLING CODE 5001-06-P